ENVIRONMENTAL PROTECTION AGENCY

[EPA-HQ-OAR-2011-0928; FRL-9102-01-OMS ]

Information Collection Request Submitted to OMB for Review and Approval; Comment Request; Fuel Use Requirements for Great Lake Steamships (Renewal)

AGENCY: Environmental Protection Agency (EPA).

ACTION: Notice.

SUMMARY: The Environmental Protection Agency (EPA) has submitted an information collection request (ICR), Fuel Use Requirements for Great Lakes Steamships (EPA ICR Number 2458.05, OMB Control Number 2060-0679) to the Office of Management and Budget (OMB) for review and approval in accordance with the Paperwork Reduction Act. This is an extension of the ICR, which is currently approved through November 30, 2021. Public comments were previously requested via the Federal Register on March 19, 2021, during a 60-day comment period. This notice allows an additional 30 days for public comments. A fuller description of the ICR is given below, including its estimated burden and cost to the public. An agency may not conduct or sponsor and a person is not required to respond to a collection of information unless it displays a currently valid OMB control number.

DATES: Comments must be submitted on or before November 1, 2021.

ADDRESSES: Submit your comments, referencing Docket ID No. EPA-HQ-OAR-2011-0928 online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Alan Stout, Office of Transportation and Air Quality, Environmental Protection Agency, 2565 Plymouth Road, Ann Arbor, MI 48105; 734-214-4805; stout.alan@epa.gov.

SUPPLEMENTARY INFORMATION: Supporting documents that explain in detail the information EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: EPA adopted requirements for marine vessels operating in and around U.S. territorial waters to use reduced-sulfur diesel fuel. This requirement applies to steamships that are converted to run on diesel engines. A regulatory provision allows vessel owners to qualify for a waiver from the fuel-use requirements for a defined period for such converted vessels. One condition of the exemption from the fuel standard is that engines meet current emission standards. EPA uses the information to oversee compliance with regulatory requirements, including communicating with affected companies and answering questions from the public or other industry participants regarding the waiver in question. The EPA Tier 4 standards now apply for engines installed on U.S. vessels. These standards generally require installation of selective catalytic reduction technology, which substantially increases the complexity of replacing the steam powerplant with one or more engines. We therefore don't expect anyone to use the steamship exemption.

Form Numbers: None.

Respondents/affected entities: Respondents are those who are using the waiver provisions of 40 CFR 1043.95(b).

Respondent's obligation to respond: Required to obtain a benefit (40 CFR 1043.95).

Estimated number of respondents: 0.

Frequency of response: One time for a new notification.

Total estimated burden: 0 hours (per year). Burden is defined at 5 CFR 1320.03(b).

Total estimated cost: $0.

Changes in estimates: The burden estimate is unchanged from the current estimate in the total estimated respondent burden currently approved by OMB. Since the IMO Tier III NOX standards now apply for engines installed on U.S. vessels, we don't expect anyone to use the steamship exemption.

Courtney Kerwin,
Director, Regulatory Support Division.

[FR Doc. 2021-21287 Filed 9-29-21; 8:45 am]

BILLING CODE 6560-50-P